NUCLEAR REGULATORY COMMISSION

[Docket No. 50-395; NRC-2023-0152]

Dominion Energy South Carolina, Inc.; Virgil C. Summer Nuclear Station, Unit 1; Draft Supplemental Environmental Impact Statement

AGENCY: Nuclear Regulatory Commission.

ACTION: Reschedule of public meeting; reopening of comment period.

SUMMARY: On December 6, 2024, the U.S. Nuclear Regulatory Commission (NRC) solicited public comments on draft Supplement 15, Second Renewal, to the Generic Environmental Impact Statement (GEIS) for License Renewal of Nuclear Plants, NUREG-1437, regarding the subsequent renewal of Renewed Facility Operating License No. NPF-12 for an additional 20 years for Virgil C. Summer Nuclear Station, Unit 1 (V.C. Summer). The public comment period closed on January 21, 2025. The NRC has rescheduled the in-person public meeting to receive comments on the document and is therefore reopening the public comment period to allow more time for members of the public to submit their comments.

DATES: The NRC has rescheduled its in-person public meeting to January 28, 2025, at 6 p.m. eastern time (ET). The public meeting details can be found on the NRC's Public Meeting Schedule at https://www.nrc.gov/pmns/mtg. The comment period for the document published on December 6, 2024 (89 FR 97077) has been reopened. Members of the public are invited to submit comments by February 11, 2025. Comments received after this date will be considered, if it is practical to do so, but the NRC is able to ensure consideration only for comments received on or before that date.

ADDRESSES: You may submit comments by any of the following methods; however, the NRC encourages electronic comment submission through the Federal rulemaking website:

• Federal rulemaking website: Go to https://www.regulations.gov and search for Docket ID NRC-2023-0152. Address questions about Docket IDs in Regulations.gov to Stacy Schumann; telephone: 301-415-0624; email: Stacy.Schumann@nrc.gov. For technical questions, contact the individual listed in the FOR FURTHER INFORMATION CONTACT section of this document.

• Email: Comments may be submitted to the NRC electronically using the email address: SummerEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kim Conway, Office of Nuclear Material Safety and Safeguards, U.S. Nuclear Regulatory Commission, Washington, DC 20555-0001; telephone: 301-415-1335; email: Kimberly.Conway@nrc.gov.

SUPPLEMENTARY INFORMATION:

I. Obtaining Information and Submitting Comments

A. Obtaining Information

Please refer to Docket ID NRC-2023-0152 when contacting the NRC about the availability of information for this action. You may obtain publicly available information related to this action using any of the following methods:

• Federal Rulemaking Website: Go to https://www.regulations.gov and search for Docket ID NRC-2023-0152.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft Supplement 15, Second Renewal, to the GEIS for License Renewal of Nuclear Plants, NUREG-1437, is available in ADAMS under Accession No. ML24330A271.

• NRC's PDR: The PDR, where you may examine and order copies of publicly available documents, is open by appointment. To make an appointment to visit the PDR, please send an email to PDR.Resource@nrc.gov, or call 1-800-397-4209 or 301-415-4737, between 8 a.m. and 4 p.m. ET, Monday through Friday, excluding Federal holidays.

• Public Library: A copy of draft Supplement 15, Second Renewal, to the GEIS for License Renewal of Nuclear Plants, NUREG-1437, regarding the proposed subsequent renewal of Renewed Facility Operating License No. NPF-12 for an additional 20 years for V.C. Summer is available for public review at the Fairfield County Library, 300 West Washington St., Winnsboro, SC 29180.

B. Submitting Comments

The NRC encourages electronic comment submission through the Federal rulemaking website (https://www.regulations.gov). Please include Docket ID NRC-2023-0152 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 6, 2024, the NRC solicited public comments on draft Supplement 15, Second Renewal, to the GEIS for License Renewal of Nuclear Plants, NUREG-1437, regarding the subsequent renewal of Renewed Facility Operating License No. NPF-12 for an additional 20 years for V.C. Summer. Draft Supplement 15, Second Renewal, to the GEIS includes the NRC staff's evaluation of the environmental impacts of the proposed action and alternatives to the proposed action.

Pursuant to section 51.73 of title 10 of the Code of Federal Regulations, the NRC established a comment period of 45 days from the date of its Federal Register notice issued on December 6, 2024 (89 FR 97077). The public comment period closed on January 21, 2025. However, the in-person public meeting originally scheduled for January 9, 2025, was postponed due to the day's designation as a National Day of Mourning throughout the United States. The in-person public meeting has been rescheduled to January 28, 2025. In order to accommodate the rescheduled meeting and to allow more time for members of the public to submit their comments, the NRC has decided to reopen the public comment period to February 11, 2025. Comments received after this date will be considered, if it is practical to do so, but the NRC is able to ensure consideration only for comments received on or before that date.

Dated: January 17, 2025.
For the Nuclear Regulatory Commission.
Theodore Smith,
Acting Deputy Director, Division of Rulemaking, Environmental, and Financial Support, Office of Nuclear Material Safety and Safeguards.

[FR Doc. 2025-01609 Filed 1-22-25; 8:45 am]

BILLING CODE 7590-01-P